DEPARTMENT OF TRANSPORTATION

Federal Aviation Administration

14 CFR Part 39

[Docket No. FAA-2012-0644; Directorate Identifier 2012-NM-011-AD]

RIN 2120-AA64

Airworthiness Directives; The Cessna Aircraft Company Airplanes

AGENCY: Federal Aviation Administration (FAA), DOT.

ACTION: Notice of proposed rulemaking (NPRM).

SUMMARY: We propose to adopt a new airworthiness directive (AD) for certain The Cessna Aircraft Company Model 750 airplanes. This proposed AD was prompted by reports of direct current (DC) generator overvoltage events. This proposed AD would require replacing the auxiliary power unit (APU) generator control unit (GCU). We are proposing this AD to prevent DC generator overvoltage events, which could result in subsequent smoke in the cockpit and loss of avionics and electrical systems.

DATES: We must receive comments on this proposed AD by August 9, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Cessna Aircraft Co., P.O. Box 7706, Wichita, Kansas 67277; telephone 316-517-6215; fax 316-517-5802; email citationpubs@cessna.textron.com; Internet https://www.cessnasupport.com/newlogin.html. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Christine Abraham, Aerospace Engineer, Electrical Systems and Avionics Branch, ACE-119W, FAA, Wichita Aircraft Certification Office, 1801 Airport Road, Room 100, Mid-Continent Airport, Wichita, Kansas 67209; telephone: 316-946-4165; fax: 316-946-4107; email: christine.abraham@faa.gov.

SUPPLEMENTARY INFORMATION:

Comments Invited

We invite you to send any written relevant data, views, or arguments about this proposal. Send your comments to an address listed under the ADDRESSES section. Include “Docket No. FAA-2012-0644; Directorate Identifier 2012-NM-011-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of direct current (DC) generator overvoltage events. The GCU overvoltage protection circuit can become damaged and allow high voltage to pass through to the airplane systems and electrical components. This condition, if not corrected, could result in smoke in the cockpit and loss of avionics and electrical systems.

Relevant Service Information

We reviewed Cessna Service Bulletin SB750-24-30, dated December 5, 2011. The service information describes procedures for replacing the APU GCU having part number (P/N) 9914752-2 with one having P/N 9914752-6.

Other Relevant Rulemaking

On January 28, 2011, we issued AD 2011-03-16, Amendment 39-16600 (76 FR 8607, February 15, 2011), for Model 750 airplanes. That AD requires an inspection to determine the serial numbers of the APU generator and the left and right engine DC generators, and corrective actions if necessary. That AD also requires revising the airplane flight manual (AFM). That AD was prompted by a report of a DC generator overvoltage event, which caused smoke in the cockpit and damage to numerous avionics and electrical components. In that AD, we noted that additional rulemaking might be necessary. The replacement proposed in this AD is necessary in addition to the actions required by AD 2011-03-16, in order to address the identified unsafe condition.

FAA's Determination

We are proposing this AD because we evaluated all the relevant information and determined the unsafe condition described previously is likely to exist or develop in other products of the same type design.

Proposed AD Requirements

This proposed AD would require accomplishing the actions specified in the service information described previously, except as discussed under “Differences Between the Proposed AD and the Service Information.”

Differences Between the Proposed AD and the Service Information

Operators should note that, although the Accomplishment Instructions of Cessna Service Bulletin SB750-24-30, dated December 5, 2011, state that operators must return the GCU having P/N 9914752-2 to the manufacturer, this proposed AD would not include that requirement.

Operators should also note that, although the Accomplishment Instructions of Cessna Service Bulletin SB750-24-30, dated December 5, 2011, describe procedures for submitting a sheet recording compliance with that service bulletin, this proposed AD would not include that requirement.

Costs of Compliance

We estimate that this proposed AD affects 58 airplanes of U.S. registry.

We estimate the following costs to comply with this proposed AD:

Estimated Costs
Action | Labor cost | Parts cost | Cost per product | Cost on U.S. operators
Replacement | 2 work-hours × $85 per hour = $170 | $2,400 | $2,570 | $149,060

According to the manufacturer, all of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Cessna Aircraft Company: Docket No. FAA-2012-0644; Directorate Identifier 2012-NM-011-AD.

(a) Comments Due Date

We must receive comments by August 9, 2012.

(b) Affected ADs

None.

(c) Applicability

This AD applies to The Cessna Aircraft Company Model 750 airplanes; certificated in any category; having serial numbers -0222, -0225 through -0306 inclusive, and -0308.

(d) Subject

Joint Aircraft System Component (JASC)/Air Transport Association (ATA) of America Code 24, Electrical power.

(e) Unsafe Condition

This AD was prompted by reports of direct current (DC) generator overvoltage events. We are issuing this AD to prevent DC generator overvoltage, which could result in smoke in the cockpit and loss of avionics and electrical systems.

(f) Compliance

Comply with this AD within the compliance times specified, unless already done.

(g) Replacement

Except as required by paragraph (h) of this AD: Within 6 months after the effective date of this AD, replace the auxiliary power unit generator control unit (GCU) having part number (P/N) 9914752-2 with one having P/N 9914752-6, in accordance with the Accomplishment Instructions of Cessna Service Bulletin SB750-24-30, dated December 5, 2011.

(h) Exceptions

(1) Where the Accomplishment Instructions of Cessna Service Bulletin SB750-24-30, dated December 5, 2011, state that operators must return the GCU having P/N 9914752-2 to the manufacturer, this AD does not require that action.

(2) Where the Accomplishment Instructions of Cessna Service Bulletin SB750-24-30, dated December 5, 2011, state that the operator must record that the service bulletin has been completed, this AD does not require that action.

(i) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(j) Related Information

(1) For more information about this AD, contact Christine Abraham, Aerospace Engineer, Electrical Systems and Avionics Branch, ACE-119W, FAA, Wichita Aircraft Certification Office, 1801 Airport Road, Room 100, Mid-Continent Airport, Wichita, Kansas 67209; telephone: 316-946-4165; fax: 316-946-4107; email: christine.abraham@faa.gov.

(2) For service information identified in this AD, contact Cessna Aircraft Co., P.O. Box 7706, Wichita, Kansas 67277; telephone 316-517-6215; fax 316-517-5802; email citationpubs@cessna.textron.com; Internet https://www.cessnasupport.com/newlogin.html. You may review copies of the referenced service information at the FAA, Transport Airplane Directorate, 1601 Lind Avenue SW., Renton, Washington. For information on the availability of this material at the FAA, call 425-227-1221.

Issued in Renton, Washington, on June 18, 2012.
John P. Piccola,
Acting Manager, Transport Airplane Directorate, Aircraft Certification Service.

[FR Doc. 2012-15451 Filed 6-22-12; 8:45 am]

BILLING CODE 4910-13-P